DEPARTMENT OF COMMERCE

Census Bureau

Agency Information Collection Activities; Submission to the Office of Management and Budget (OMB) for Review and Approval; Comment Request; Commodity Flow Survey (CFS)

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change, of the Commodity Flow Survey, prior to the submission of the information collection request (ICR) to OMB for approval.

DATES: To ensure consideration, comments regarding this proposed information collection must be received on or before September 21, 2021.

ADDRESSES: Interested persons are invited to submit written comments by email to Thomas.J.Smith@census.gov. Please reference Commodity Flow Survey in the subject line of your comments. You may also submit comments, identified by Docket Number USBC-2021-0017, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Berin Linfors, Branch Chief, at 301-763-5366 or berin.linfors@census.gov.

SUPPLEMENTARY INFORMATION:

I. Abstract

The Commodity Flow Survey, a component of the 2022 Economic Census, is the only comprehensive and publicly available source of multimodal, system-wide data on the volume and pattern of goods movements in the United States. The Commodity Flow Survey is conducted in partnership with the Bureau of Transportation Statistics, Office of the Assistant Secretary for Research and Technology, U.S. Department of Transportation.

The Commodity Flow Survey data are used by policy makers and transportation planners in various federal, state, and local agencies to assess the demand for transportation facilities and services, energy use, safety risks, and environmental concerns. Additionally, business owners, private researchers, and analysts use the Commodity Flow Survey data for analyzing trends in the movement of goods, mapping spatial patterns of commodity and vehicle flows, forecasting demands for the movement of goods, and determining the needs for associated infrastructure and equipment.

The survey provides data on the movement of commodities in the United States from their origin to destination. The survey produces summary statistics on value, tons, ton-miles and average miles by commodity, industry, and mode of transportation. The Census Bureau will publish these shipment characteristics for the nation, census regions and divisions, states, and CFS defined geographical areas.

Primary strategies for reducing respondent burden in the Commodity Flow Survey include: Employing a stratified random sample of business establishments, requesting data on a limited sample of shipment records from each establishment with the option to provide all shipments in the week, accepting estimates of shipping activity, applying machine learning to code products based on their descriptions, providing electronic reporting and including the option for consolidated reporting of multiple locations through a single login for larger companies.

II. Method of Collection

The Commodity Flow Survey will be conducted on a sample of business establishments classified in mining, manufacturing, wholesale, and select retail and services industries, as defined by the North American Industry Classification System (NAICS). The survey will also cover auxiliary establishments (i.e., warehouses and managing offices) of multi-establishment companies. Each selected establishment will be surveyed four times, once during each calendar quarter of 2022. Quarters one and four will include a supplement with questions on hazardous materials packaging for companies that ship hazardous materials. Each questionnaire will ask the establishment to report data for up to 100 shipments for a predetermined reporting week. These data will include the value, net weight, commodity, and origin and destination of each selected shipment. Survey responses will be collected electronically, and respondents will have the option to provide all shipments for the reporting week instead of sampling shipments.

III. Data

OMB Control Number: 0607-0932.

Form Number(s): CFS 1000 (2022).

Type of Review: Regular submission, Request for a Reinstatement, with Change, of a Previously Approved Collection.

Affected Public: Business and other for-profit, small businesses or organizations.

Estimated Number of Respondents: 160,000.

Estimated Time per Response: 2.5 hours.

Estimated Total Annual Burden Hours: 1,600,000.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C., Sections 8(b), 131 and 193; Title 49 U.S.C., Section 6302.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-15681 Filed 7-22-21; 8:45 am]

BILLING CODE 3510-07-P